DEPARTMENT OF JUSTICE

Bureau of Alcohol, Tobacco, Firearms and Explosives

[OMB Number 1140-0107]

Agency Information Collection Activities; Proposed eCollection eComments Requested; Revision of a Currently Approved Collection; National Firearms Act (NFA) Responsible Person Questionnaire—ATF Form 5320.23

AGENCY: Bureau of Alcohol, Tobacco, Firearms and Explosives, Department of Justice.

ACTION: 60-Day notice.

SUMMARY: The Department of Justice (DOJ), Bureau of Alcohol, Tobacco, Firearms and Explosives (ATF), will submit the following information collection request to the Office of Management and Budget (OMB) for review and approval in accordance with the Paperwork Reduction Act of 1995. The proposed information collection OMB 1140-0107 (National Firearms Act (NFA) Responsible Person Questionnaire—ATF Form 5320.23), is being revised to include additional questions and updates to the instructions including definition of new terminology.

DATES: Comments are encouraged and will be accepted for 60 days until June 24, 2019.

FOR FURTHER INFORMATION CONTACT: If you have additional comments, regarding the estimated public burden or associated response time, suggestions, or need a copy of the proposed information collection instrument with instructions, or additional information, please contact: James Chancey, National Firearms Act Division either by mail at 244 Needy Road, Martinsburg, WV 25405, by email at James.Chancey@atf.gov, or by telephone at 304-616-4594.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a currently approved collection.

2. The Title of the Form/Collection: National Firearms Act (NFA) Responsible Person Questionnaire.

3. The agency form number, if any, and the applicable component of the Department sponsoring the collection:

Form number (if applicable): ATF Form 5320.23.

Component: Bureau of Alcohol, Tobacco, Firearms and Explosives, U.S. Department of Justice.

4. Affected public who will be asked or required to respond, as well as a brief abstract:

Primary: Business or other for-profit, Federal Government. State, Local or Tribal Government.

Other (if applicable): Individuals or households. Not-for-profit institutions and Farms.

Abstract: The ATF Form 5320.23 is required for any responsible person (as defined in 27 CFR 479.11) who is part of a trust or legal entity that is applying on ATF Form 1, Application to Make and Register a Firearm, as the maker or is identified as the transferee on ATF Form 4, Application for Tax Paid Transfer and Registration of Firearm, or ATF Form 5, Application for Tax Exempt Transfer of Firearm. Forms 1, 4 and 5 are required under the National Firearms Act (NFA).

5. An estimate of the total number of respondents and the amount of time estimated for an average respondent to respond: An estimated 115,829 respondents will utilize the form and it will take each respondent approximately 30 minutes to complete their responses.

6. An estimate of the total public burden (in hours) associated with the collection: The estimated annual public burden associated with this collection is 57,914.5 or 57,915 hours, which is equal to 115,829 (# of respondents) * 1 (# of responses per respondents) * .5 (30 minutes).

If additional information is required contact: Melody Braswell, Department Clearance Officer, United States Department of Justice, Justice Management Division, Policy and Planning Staff, Two Constitution Square, 145 N Street NE, 3E.405A, Washington, DC 20530.

Dated: April 19, 2019.
Melody Braswell,
Department Clearance Officer for PRA, U.S. Department of Justice.

[FR Doc. 2019-08316 Filed 4-24-19; 8:45 am]

BILLING CODE 4410-FY-P